DEPARTMENT OF DEFENSE

Office of the Secretary

[Transmittal No. 21-46]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-46 with attached Policy Justification and Sensitivity of Technology.

Dated: September 21, 2023.
Aaron T. Siegel,
Alternate OSD Federal Register Liaison Officer, Department of Defense.

Transmittal No. 21-46

Notice of Proposed Issuance of Letter of Offer Pursuant to Section 36(b)(1) of the Arms Export Control Act, as Amended

(i) Prospective Purchaser: Government of Jordan

(ii) Total Estimated Value:

Major Defense Equipment * | $50 million
Other | $20 million
Total | $70 million
* Funding Source: Foreign Military Financing (FMF)

(iii) Description and Quantity or Quantities of Articles or Services under Consideration for Purchase:

Major Defense Equipment (MDE):

One hundred fourteen (114) Guided Multiple Launch Rocket System (GMLRS) Unitary High Explosive (HE) Tri-Mode Fuze (GMLRS-U) (M31) Rockets

One hundred fourteen (114) Reduced Range Practice Rockets (RRPR)

Non-MDE:

Also included is support equipment; publications and technical data; personnel training and equipment; systems integration support; U.S. Government and contractor engineering technical and logistics support services; and other related elements of logistics and program support.

(iv) Military Department: Army (JO-B-YAY)

(v) Prior Related Cases, if any: JO-B-WYB

(vi) Sales Commission, Fee, etc., Paid, Offered, or Agreed to be Paid: None

(vii) Sensitivity of Technology Contained in the Defense Article or Defense Services Proposed to be Sold: See Attached Annex

(viii) Date Report Delivered to Congress: February 8, 2022

* As defined in Section 47(6) of the Arms Export Control Act.

POLICY JUSTIFICATION

Jordan—Guided Multiple Launch Rocket Systems (GMLRS) Alternate Warhead (AW) Unitary Rocket Pods

The Government of Jordan has requested to buy one hundred fourteen (114) Guided Multiple Launch Rocket System (GMLRS) Unitary High Explosive (HE) Tri-Mode Fuze (GMLRS-U) (M31) Rockets; and one hundred fourteen (114) Reduced Range Practice Rockets (RRPR). Also included is support equipment; publications and technical data; personnel training and equipment; systems integration support; U.S. Government and contractor engineering technical and logistics support services; and other related elements of logistics and program support. The estimated total cost is $70 million.

This proposed sale will support the foreign policy and national security of the United States by helping to improve the security of a Major Non-NATO Ally that is an important force for political stability and economic progress in the Middle East.

The proposed sale will improve Jordan's capability to meet current and future threats on its borders and provide greater security for its economic infrastructure. This sale will provide Jordan with a long-range precision artillery support capability that will significantly improve U.S.-Jordan interoperability and provide for the defense of vital installations. Jordan will have no difficulty absorbing these additional systems into its armed forces.

The proposed sale of this equipment and support will not alter the basic military balance in the region.

The principal contractor will be Lockheed Martin Missile and Fire Control, Dallas, TX. There are no known offset agreements proposed in connection with this potential sale.

Implementation of this sale will not require the assignment of any additional U.S. Government or contractor representatives to Jordan.

There will be no adverse impact on U.S. defense readiness as a result of this proposed sale.

Transmittal No. 21-46

Notice of Proposed Issuance of Letter of Offer Pursuant to Section 36(b)(1) of the Arms Export Control Act

Annex

Item No. vii

(vii) Sensitivity of Technology:

1. The Guided Multiple Launch Rocket System (GMLRS) is a solid propellant artillery rocket for the High Mobility Artillery Rocket System (HIMARS). GMLRS uses GPS-aided inertial guidance to accurately and quickly deliver a single high-explosive blast fragmentation warhead to targets. The GMLRS has an operational range of 15-70km.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Jordan can provide substantially the same degree of protection for the sensitive technology being released as the U.S. Government. This sale is necessary in furtherance of the U.S. foreign policy and national security objectives outlined in the Policy Justification.

5. All defense articles and services listed in this transmittal have been authorized for release and export to the Government of Jordan.

[FR Doc. 2023-20975 Filed 9-26-23; 8:45 am]

BILLING CODE 5001-06-P